DEPARTMENT OF THE INTERIOR

Bureau of Land Management

[WY-930-02-1310DS]

Notice To Extend Public Comment Period for a Draft Environmental Impact Statement (DEIS)

AGENCY: Bureau of Land Management, Interior.

ACTION: Notice to extend public comment period for the Powder River Basin Oil and Gas DEIS.

SUMMARY: Public comment period is being extended on the Powder River EIS. The comment period is being extended due to extensive public comment, a high level of public interest, and the lack of internet access during a portion of the comment period.

DATES: The public comment period is being extended to May 15, 2002. Submissions should be in writing or by E-mail (see addresses below).

ADDRESSES: Comments should be submitted in writing to: Field Manager, Bureau of Land Management, Buffalo Field Office, 1425 Fort Street, Buffalo, Wyoming 82834 or by E-mail to: buffalo_wmail@blm.gov.

FOR FURTHER INFORMATION CONTACT: Paul Beels, Powder River Oil and Gas EIS Project Leader, Bureau of Land Management, Buffalo Field Office, at the above addresses or at telephone number (307) 684-1100.

SUPPLEMENTARY INFORMATION: The Notice of Availability of the DEIS was originally published in the Federal Register on January 11, 2002 (67 FR 1497).

Dated: April 12, 2002.
Alan L. Kesterke,
Associate State Director.

[FR Doc. 02-9647 Filed 4-16-02; 8:45 am]

BILLING CODE 4310-22-P